LIBRARY OF CONGRESS

Copyright Office

37 CFR Parts 201 and 202

[Docket No. 2016-8]

Group Registration of Contributions to Periodicals

AGENCY: U.S. Copyright Office, Library of Congress.

ACTION: Extension of comment period.

SUMMARY: The United States Copyright Office is extending the deadline for the submission of written comments in response to its December 1, 2016 Notice of Proposed Rulemaking regarding group registration of contributions to periodicals.

DATES: Written comments are now due no later than 11:59 p.m. Eastern Time on January 30, 2017.

ADDRESSES: The Copyright Office is using the regulations.gov system for the submission and posting of public comments in this proceeding. All comments are therefore to be submitted electronically through regulations.gov. Specific instructions for submitting comments are available on the Copyright Office Web site at http://copyright.gov/rulemaking/grcp/. If electronic submission of comments is not feasible, please contact the Office using the contact information below for special instructions.

FOR FURTHER INFORMATION CONTACT: Robert J. Kasunic, Associate Register of Copyrights and Director of Registration Policy and Practice, or Erik Bertin, Deputy Director of Registration Policy and Practice. Each can be reached by telephone at 202-707-8040.

SUPPLEMENTARY INFORMATION: The United States Copyright Office is proposing to amend the regulation governing the group registration option for contributions to periodicals to reflect certain upgrades that will soon be made to the electronic registration system. On December 1, 2016, the Office issued a Notice of Proposed Rulemaking seeking public input on that topic. See 81 FR 86634 (Dec. 1, 2016). To ensure that commenters have sufficient time to respond, the Office is extending the deadline for the submission of comments in response to the Notice to January 30, 2017, at 11:59 p.m. Eastern Time.

Dated: December 9, 2016.
Sarang V. Damle,
General Counsel and Associate Register of Copyrights.

[FR Doc. 2016-30077 Filed 12-14-16; 8:45 am]

BILLING CODE 1410-30-P